DEPARTMENT OF THE INTERIOR

National Park Service

[NPS-WASO-NAGPRA-NPS0038990; PPWOCRADN0-PCU00RP14.R50000]

Notice of Intended Repatriation: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) intends to repatriate certain cultural items that meet the definition of sacred objects and objects of cultural patrimony and that have a cultural affiliation with the Indian Tribes or Native Hawaiian organizations in this notice.

DATES: Repatriation of the cultural items in this notice may occur on or after December 12, 2024.

ADDRESSES: Deanna Byrd, Peabody Museum of Archaeology and Ethnology, Harvard University, 11 Divinity Avenue, Cambridge, MA 02138, telephone (617) 384-0672, email deannabyrd@fas.harvard.edu.

SUPPLEMENTARY INFORMATION: This notice is published as part of the National Park Service's administrative responsibilities under NAGPRA. The determinations in this notice are the sole responsibility of the PMAE, and additional information on the determinations in this notice, including the results of consultation, can be found in the summary or related records. The National Park Service is not responsible for the determinations in this notice.

Abstract of Information Available

A total of 19 cultural items have been requested for repatriation. The 19 sacred objects/objects of cultural patrimony are one lot of baskets, one lot of faunal remains, one lot of twined bowls, one lot of lithic material, one dugout canoe and one lot of accompanying parts, one lot of gaming pieces, one lot of utensils, one stone maul, one salmon club, one lot of fishing implements including nets and net sinkers, one lot of fiber material, one dentalium box, one lot of pipes and cases, one lot of natural brushes, one lot of mush paddles, one lot of bone implements, one lot of unfinished regalia, and one lot of completed ceremonial regalia which includes headbands, moccasins, masks, dance caps, skirts, aprons, adornment items, and plumes. Grace Nicholson, Carroll S. Hartman, Mrs. Lee Hoffman, Dr. Alfred Louis Kroeber, Frederick H. Rindge, among others, collected and exchanged cultural items from several Yurok communities and villages from their expeditions along the Klamath River during the early to mid-20th century. The information available in PMAE records indicates that these 19 cultural items are culturally affiliated with the Yurok people.

Determinations

The PMAE has determined that:

• The 19 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Elk Valley Rancheria, California; Resighini Rancheria, California; and the Yurok Tribe of the Yurok Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 12, 2024. If competing requests for repatriation are received, the PMAE must determine the most appropriate requestor prior to repatriation. Requests for joint repatriation of the cultural items are considered a single request and not competing requests. The PMAE is responsible for sending a copy of this notice to the Indian Tribes and Native Hawaiian organizations identified in this notice and to any other consulting parties.

Authority: Native American Graves Protection and Repatriation Act, 25 U.S.C. 3004 and the implementing regulations, 43 CFR 10.9.

Dated: October 29, 2024.
Melanie O'Brien,
Manager, National NAGPRA Program.

[FR Doc. 2024-26086 Filed 11-8-24; 8:45 am]

BILLING CODE 4312-52-P